DEPARTMENT OF TRANSPORTATION

Federal Railroad Administration

Petition for Waiver of Compliance

In accordance with part 211 of Title 49 Code of Federal Regulations (CFR), notice is hereby given that the Federal Railroad Administration (FRA) received a request for a waiver of compliance from certain requirements of its safety regulations. The individual petition is described below including, the party seeking relief, the regulatory provisions involved, the nature of the relief being requested, and the petitioner's arguments in favour of relief.

Texas Parks and Wildlife

[Docket Number FRA-2000-7270]

Texas Parks and Wildlife (TPW) seeks a permanent waiver of compliance from 49 CFR 232.17(b)(2) to extend the clean, oil, test, and stencil (COT&S) period from 15 to 48 months on passenger cars they operate equipped with UC and L type air brakes. TPW operates the Texas State Railroad between Rusk and Palestine, Texas. They have two cars equipped with L type brakes and the rest have UC type brakes. Section 232.17(b)(2) requires that brake equipment on passenger cars must be clean, repaired, lubricated and tested as often as necessary to maintain it in a safe and suitable condition for service but not less frequently than as required in Standard S-045 in the Manual of Standards and Recommended Practices of the Association of American Railroads. Standard S-045, A-III-256, Section 2.1.2, requires a COT&S every 15 months for this brake equipment. TPW has concluded that a car that runs on a passenger railroad using a 15 month cycle would be legal for 10,800 hours. TPW has calculated that if the equipment is in service only 60 percent of the 15 month cycle, then only 6,480 hours would be used. TPW claims that all of their annual runs, including specials and school runs, only total 1,100 hours a year. Therefore, TPW would like to extend the COT&S time period to 48 months, which would be less than 4,400 hours of actual service time.

Interested parties are invited to participate in these proceedings by submitting written views, data, or comments. FRA does not anticipate scheduling a public hearing in connection with these proceedings since the facts do not appear to warrant a hearing. If any interested party desires an opportunity for oral comment, they should notify FRA in writing, before the end of the comment period and specify the basis for their request.

All communications concerning these proceedings should identify the appropriate docket number (e.g., Waiver Petition Docket Number FRA-2000-7270) and must be submitted in triplicate to the Docket Clerk, DOT Central Docket Management Facility, Room PL-401, Washington, DC. 20590-0001. Communications received within 45 days of the date of this notice will be considered by FRA before final action is taken. Comments received after that date will be considered as far as practicable. All written communications concerning these proceedings are available for examination during regular business hours (9:00 a.m.-5:00 p.m.) at DOT Central Docket Management Facility, Room PL-401 (Plaza Level), 400 Seventh Street S.W., Washington, DC. All documents in the public docket are also available for inspection and copying on the Internet at the docket facility's Web site at http://dms.dot.gov.

Issued in Washington, DC, on October 18, 2000.
Grady C. Cothen, Jr.,
Deputy Associate Administrator for Safety Standards and Program Development.

[FR Doc. 00-27318 Filed 10-24-00; 8:45 am]

BILLING CODE 4910-06-P